DEPARTMENT OF STATE

[Public Notice 4026]

Universal Postal Union Issues

AGENCY: Department of State.

ACTION: Notice of Briefing.

The Department of State will host a briefing on Thursday, June 13, 2002, to provide an update on recent decisions and reform initiatives at the Universal Postal Union (UPU).

The briefing will be held from 2 p.m. until approximately 4 p.m., on June 13, 2002, in Room 1406 of the Department of State in Washington, DC. The briefing will be open to the public up to the capacity of the meeting room.

The briefing will provide information on the results of the recent meetings of the Postal Operations Council and the new UPU private-sector Advisory Group, as well as on the status of UPU terminal dues, extra-territorial offices of exchange (ETOEs), customs issues and postal security coordination with the UPU. The briefing will be chaired by Ambassador E. Michael Southwick of the Department of State.

Entry to the Department of State building is controlled and will be facilitated by advance arrangements. In order to arrange admittance, persons desiring to attend the briefing should, no later than noon on June 11, 2002, notify the Office of Technical and Specialized Agencies, Bureau of International Organization Affairs, Department of State, preferably by fax, providing the name of the meeting and the individual's name, Social Security number, date of birth, professional affiliation, address and telephone number. The fax number to use is (202) 647-8902. Voice telephone is (202) 647-1044. This request applies to both government and non-government individuals.

All attendees must use the Department of State entrance on 23rd Street, between C and D Streets, N.W. For security reasons, C Street is closed to vehicular traffic, but taxis may reach the 23rd Street entrance. One of the following means of identification will be required for admittance: any U.S. driver's license with photo, a passport, or any U.S. Government agency identification card. Questions concerning the briefing may be directed to Mr. Neil Boyer at (202) 647-1044 or via email at boyerna@state.gov.

Dated: May 16, 2002.
Margaret C. Jones,
Director, Office of Technical and Specialized Agencies, Bureau of International Organization Affairs, Department of State.

[FR Doc. 02-12827 Filed 5-21-02; 8:45 am]

BILLING CODE 4710-19-P